ENVIRONMENTAL PROTECTION AGENCY

[OPPT-2003-0004; FRL-7293-1]

Access to Confidential Business Information by ASRC Aerospace Corporation

AGENCY: Environmental Protection Agency (EPA).

ACTION: Notice.

SUMMARY: EPA has authorized ASRC Aerospace Corporation, of Greenbelt, MD, access to information which has been submitted to EPA under all sections of the Toxic Substances Control Act (TSCA). Some of the information may be claimed or determined to be Confidential Business Information (CBI).

DATES: Access to the confidential data submitted to EPA under all sections of TSCA occurred as a result of an approved waiver dated January 31, 2003.

FOR FURTHER INFORMATION CONTACT: Barbara A. Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. EPA's Docket Center is open from 8:30 a.m. to 4:30 p.m., Monday through Friday, excluding legal holidays. EPA's Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

Under Contract Number 68-W-03-013, ASRC Aerospace Corporation, of 6301 Ivy Lane, Suite 300, Greenbelt, MD, will assist EPA in managing the Confidential Business Information Center (CBIC), which is the centralized point of contact for TSCA CBI records and serves as the repository for these records. ASRC Aerospace Corporation will also receive, data entry, copy, track, and distribute records in accordance with the TSCA Security Manual.

Under Contract Number 68-W-01-002, Delivery Order Number 235, ASRC Aerospace Corporation will assist EPA in managing the Non-confidential Information Center (NCIC). ASRC Aerospace Corporation will provide current and historical records on all TSCA non-CBI submissions received in compliance with TSCA; organize, distribute and prepare records for permanent storage; and handle all docket-related records for OPPT, in accordance with the TSCA Security Manual.

In accordance with 40 CFR 2.306(j), EPA has determined that under Contract Numbers 68-W-03-013 and 68-W-01-002, ASRC Aerospace Corporation will require access to CBI submitted to EPA under all sections of TSCA, to perform successfully the duties specified under the contract.

ASRC Aerospace Corporation personnel were given access to information submitted to EPA under all sections of TSCA. Some of the information may be claimed or determined to be CBI.

ASRC Aerospace Corporation was granted a waiver on January 31, 2003. This waiver was necessary to allow ASRC Aerospace Corporation to assist OPPT in the activities listed above.

EPA is issuing this notice to inform all submitters of information under all sections of TSCA, that the Agency may provide ASRC Aerospace Corporation access to these CBI materials on a need-to-know basis only. All access to TSCA CBI under this contract will take place at EPA Headquarters.

ASRC Aerospace Corporation will be required to adhere to all provisions of EPA's TSCA Confidential Business Information Security Manual.

Clearance for access to TSCA CBI under Contract Numbers 68-W-03-013 and 68-W-01-002 may continue until December 31, 2009, and October 18, 2006, respectively.

ASRC Aerospace Corporation personnel will be required to sign nondisclosure agreements and will be briefed on appropriate security procedures before they are permitted access to TSCA CBI.

List of Subjects

Environmental protection, Confidential business information.

Dated: February 26, 2003.
Allan S. Abramson,
Director, Information Management Division, Office of Pollution Prevention and Toxics.

[FR Doc. 03-5317 Filed 3-6-03; 8:45 am]

BILLING CODE 6560-50-S